DEPARTMENT OF AGRICULTURE

Agricultural Marketing Service

[Doc No. AMS-FGIS-20-0067]

United States Standards for Split Peas

AGENCY: Agricultural Marketing Service, USDA

ACTION: Notice and request for comments

SUMMARY: The United States Department of Agriculture's (USDA) Agricultural Marketing Service (AMS) is proposing a revision to the method of interpretation for determining “whole peas,” in the Pea and Lentil Inspection Handbook, as it pertains to the class “Split Peas,” in the U.S. Standards for Split Peas under the United States Agricultural Marketing Act (AMA). Stakeholders in the pea processing/handling industry requested AMS to amend the interpretation of whole peas in the Split Pea inspection instructions by increasing the percent requirement for the factor whole peas. To ensure that the Split Pea class standard remains relevant, AMS invites interested parties to comment on whether revising the inspection instruction facilitates the marketing of Split Peas. This action does not revise or amend the Grade and Grade Requirements for the class Split Peas in the U.S. Standard for Split Peas.

DATES: We will consider comments we receive by October 29, 2020.

ADDRESSES: Submit comments or notice of intent to submit comments by any of the following methods:

To submit Comments: Go to Regulations.gov (http://www.regulations.gov). Instructions for submitting and reading comments are detailed on the site. Interested persons are invited to submit written comments concerning this notice. All comments must be submitted through the Federal e-rulemaking portal at http://www.regulations.gov and should reference the document number and the date and page number of this issue of the Federal Register. All comments submitted in response to this notice will be included in the record and will be made available to the public. Please be advised that the identity of the individuals or entities submitting comments will be made public on the internet at the address provided above.

FOR FURTHER INFORMATION CONTACT: Loren Almond, USDA AMS; Telephone: (816) 891-0422; Email: Loren.L.Almond@ams.usda.gov.

SUPPLEMENTARY INFORMATION: Under the authority of the AMA (7 U.S.C. 1621-1627), as amended, AMS establishes and maintains a variety of quality and grade standards for agricultural commodities that serve as a fundamental starting point to define commodity quality in the domestic and global marketplace. Standards developed under the AMA include those for rice, whole dry peas, split peas, feed peas, lentils, and beans. The U.S. standards for whole dry peas, split peas, feed peas, lentils and beans no longer appear in the Code of Federal Regulations but are now maintained by USDA-AMS-Federal Grain Inspection Service. The U.S. standards for split peas are voluntary and widely used in private contracts, government procurement, marketing communication, and for some commodities, consumer information.

The split pea standards facilitate pea marketing and define U.S. pea quality in the domestic and global marketplace. The standards define commonly used industry terms; contain basic principles governing the application of standards such as the type of sample used for a particular quality analysis; the basis of determination; and specify grades and grade requirements. Official procedures for determining grading factors are provided in the Pea and Lentil Inspection Handbook. Together, the grading standards and testing procedures allow buyers and sellers to communicate quality requirements, compare pea quality using equivalent forms of measurement, and assist in price discovery.

AMS engages in outreach with stakeholders to ensure commodity standards maintain relevance to the modern market. Stakeholders, including the U.S. Dry Pea and Lentil Council (USDPLC), requested AMS to revise the split pea criteria for whole peas in the class Split Peas. Whole Peas are dry peas which are not split. The current definition of a “whole pea” is any pea which is 55 percent or more of a whole pea. The current tolerances for whole peas in split peas are determined on approximately 250 grams. AMS-FGIS proposes to revise the split pea inspection criteria in the Pea and Lentil Inspection Handbook by amending the definition for whole peas in the Split Pea class from 55 percent or more, to 60 percent or more.

Split Pea Tolerances for Whole Peas

Representatives of pea industry stakeholders contacted AMS-FGIS to discuss ongoing issues with Split Peas, which grow predominately in Montana and North Dakota. Stakeholders told AMS that customers are looking for improved grading tools to measure the quality of products. Further, pea stakeholders told AMS that in 2019 shipments of split peas grading Number 1 at the processor subsequently graded less than Number 1, after packaging for Section 32/Food Distribution Programs. Stakeholders stated the current whole pea factor tolerance makes meeting contract specifications difficult due to the interpretation of a whole pea. During meetings and discussions, pea stakeholders communicated the need to revise the Pea and Lentil Inspection Handbook by revising the whole pea definition.

The current tolerances for whole peas in split peas are determined on a percent basis of 55 percent or more of a whole pea in 250 grams. Pea industry stakeholders recommended the tolerance be increased to 60 percent or more of a whole pea. This would assist in moving the U.S. Split Pea market towards fewer quality complaints and serve to ensure consistent grading results across the nation. AMS views this action as noncontroversial and anticipates no adverse public comment.

AMS grading and inspection services, provided through a network of federal, state, and private laboratories, conduct tests to determine the quality and condition of Split Peas. These tests are conducted in accordance with applicable standards using approved methodologies and can be applied at any point in the marketing chain. Furthermore, the tests yield rapid, reliable, and consistent results. The U.S. Standards for Split Peas and the affiliated grading and testing services offered by AMS verify that a seller's Split Peas meet specified requirements and ensure that customers receive the quality purchased.

In order for U.S. standards and grading procedures for split peas to remain relevant, AMS is issuing this request for information to invite interested parties to submit comments on the proposal to amend the whole pea interpretation for the class Split Peas. These changes do not revise or amend the Grade and Grade Requirements for the class Split Peas in the U.S. Standard for Split Peas.

Proposed AMS Action

Based on input from stakeholder organizations in the pea industry, AMS proposes to amend the Pea and Lentil Inspection Handbook to revise the definition of whole peas, by increasing the percent needed to consider a split pea to be a whole pea from 55 percent or more to 60 percent or more.

AMS will solicit comments for 30 days. All comments received within the comment period will be made part of the public record maintained by AMS, will be available to the public for review, and will be considered by AMS before a final action is taken on this proposal.

Authority: 7 U.S.C. 1621-1627.

Bruce Summers,
Administrator, Agricultural Marketing Service.

[FR Doc. 2020-21434 Filed 9-28-20; 8:45 am]

BILLING CODE P